DEPARTMENT OF HEALTH AND HUMAN SERVICES

Centers for Disease Control and Prevention

National Center for Environmental Health/Agency for Toxic Substances and Disease Registry

The Board of Scientific Counselors (BSC), Centers for Disease Control and Prevention (CDC), National Center for Environmental Health/Agency for Toxic Substances and Disease Registry (NCEH/ATSDR): Meeting.

In accordance with section 10(a)(2) of the Federal Advisory Committee Act (Pub. L. 92-463), the Centers for Disease Control and Prevention and NCEH/ATSDR announce the following committee meeting:

Name: Board of Scientific Counselors, National Center for Environmental Health/Agency for Toxic Substances and Disease Registry.

Times and Dates: 8:30 a.m.-4 p.m., November 17, 2005. 8 a.m.-12:30 p.m., November 18, 2005.

Place: CDC facility, 1825 Century Boulevard, Atlanta, Georgia 30345.

Status: Open to the public for observation, limited only by the space available. The meeting room accommodates approximately 100 people.

Purpose: The Secretary, and by delegation, the Director of the Centers for Disease Control and Prevention and the Administrator of NCEH/ATSDR, are authorized under Section 301 (42 U.S.C. 241) and Section 311 (42 U.S.C. 243) of the Public Health Service Act, as amended, to (1) conduct, encourage, cooperate with, and assist other appropriate public authorities, scientific institutions, and scientists in the conduct of research, investigations, experiments, demonstrations, and studies relating to the causes, diagnosis, treatment, control, and prevention of physical and mental diseases and other impairments; (2) assist States and their political subdivisions in the prevention of infectious diseases and other preventable conditions and in the promotion of health and well being; and (3) train state and local personnel in health work. The Board of Scientific Counselors, NCEH/ATSDR provides advice and guidance to the Secretary, HHS; the Director, CDC and Administrator, ATSDR; and the Director, NCEH/ATSDR, regarding program goals, objectives, strategies, and priorities in fulfillment of the agencies' mission to protect and promote people's health. The Board provides advice and guidance that will assist NCEH/ATSDR in ensuring scientific quality, timeliness, utility, and dissemination of results. The Board also provides guidance to help NCEH/ATSDR work more efficiently and effectively with its various constituents and to fulfill its mission in protecting America's health.

Matters to be Discussed: The agenda items will include but are not limited to an update on the futures initiatives of the Coordinating Center for Environmental Health and Injury Prevention; an update on the NCEH/ATSDR Director's priorities; the Environmental Health Services Branch peer review report; the program response to the report; an overview of the Air Pollution and Respiratory Health Branch; overview of the Division of Toxicology; update on new laboratory methods for detecting botulism toxin; and updates from the Community and Tribal Subcommittee, the Health Department Subcommittee, and the Delisting Workgroup.

Agenda items are tentative and subject to change.

Contact Person for More Information: Sandra Malcom, Committee Management Specialist, NCEH/ATSDR, 1600 Clifton Road, M/S E-28, Atlanta, GA 30303; telephone 404/498-0003, fax 404/498-0059; e-mail: smalcom@cdc.gov. The deadline for notification of attendance is November 10, 2005.

The Director, Management Analysis and Services Office, has been delegated the authority to sign Federal Register notices pertaining to announcements of meetings and other committee management activities for both CDC and NCEH/ATSDR.

Dated: October 21, 2005.
Diane Allen,
Acting Director, Management Analysis and Services Office, Centers for Disease Control and Prevention.

[FR Doc. 05-21431 Filed 10-26-05; 8:45 am]

BILLING CODE 4163-18-P